DEPARTMENT OF AGRICULTURE

Food and Nutrition Service

Submission for OMB Review; Comment Request

August 29, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by October 3, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: State Agency (NSLP/SNAP) Direct Certification Rate Data Element Report (FNS-834).

OMB Control Number: 0584-0577.

Summary of Collection: Section 101(b) of the HHFKA (Pub. L. 111-296), amended section 9(b)(4) of the NSLA (42 U.S.C. 1758(b)(4)) to define required percentage benchmarks for directly certifying children in households that receive assistance SNAP and further amended the NSLA to require State agencies that do not meet the benchmark for a particular school year develop, submit, and implement a continuous improvement plan (CIP) to fully meet the benchmarks and to improve direct certification for the following school year. The purpose of the State Agency (NSLP/SNAP) Direct Certification Rate Data Element Report (FNS-834) is to collect direct certification data elements from SNAP State agencies and NSLP State agencies to calculate these direct certification rates.

Need and Use of the Information: The data collection is necessary to monitor compliance with the requirements of Section 101(b) of Public Law 111-296. The form FNS-834, State Agency Direct Certification Rate Data Element Report, provides for the collection of data elements needed to compute each State's direct certification performance rate to compare with the benchmarks.

Description of Respondents: State, Local, or Tribal Government.

Number of Respondents: 106.

Frequency of Responses: Reporting Annually.

Total Burden Hours: 53.

Ruth Brown,
Departmental Information Collection Clearance Officer.

[FR Doc. 2016-21112 Filed 9-1-16; 8:45 am]

BILLING CODE 3410-30-P